DEPARTMENT OF ENERGY

Office of Fossil Energy

[FE Docket No. 03-46-NG, 03-42-NG, 03-48-NG, 03-50-NG, 03-53-NG, 03-51-NG]

Western Gas Resources, Inc., ConocoPhillips Energy Marketing Corp., Tenaska Marketing Ventures, Murphy Gas Gathering, Inc., NUI Energy Brokers, Inc., Cinergy Marketing & Trading, LP; Orders Granting Authority To Import and Export Natural Gas

AGENCY: Office of Fossil Energy, DOE.

ACTION: Notice of orders.

SUMMARY: The Office of Fossil Energy (FE) of the Department of Energy gives notice that during September 2003, it issued Orders granting authority to import and export natural gas. These Orders are summarized in the attached appendix and may be found on the FE Web site at http://www.fe.doe.gov (select gas regulation). They are also available for inspection and copying in the Office of Natural Gas & Petroleum Import & Export Activities, Docket Room 3E-033, Forrestal Building, 1000 Independence Avenue, SW, Washington, DC 20585, (202) 586-9478. The Docket Room is open between the hours of 8 a.m. and 4:30 p.m., Monday through Friday, except Federal holidays.

Issued in Washington, D.C., on October 7, 2003.
Clifford P. Tomaszewski,
Manager, Natural Gas Regulation, Office of Natural Gas & Petroleum Import & Export Activities, Office of Fossil Energy.

Appendix—Orders Granting Import/Export Authorizations
[DOE/FE AUTHORITY]
Order No. | Date issued | Importer/Exporter FE Docket No. | Import Volume | Export Volume | Comments
1893 | 9-9-03 | Western Gas Resources, Inc.; 03-46-NG | 73 Bcf | 73 Bcf | Import and export natural gas from and to Canada, beginning on November 26, 2003, and extending through November 25, 2005.
1894 | 9-9-03 | ConocoPhillips Energy Marketing Corp.; 03-42-NG | 200 Bcf |  | Import and export a combined total of natural gas from Canada, beginning on July 12, 2003, and extending through July 11, 2005.
1895 | 9-11-03 | Tenaska Marketing Ventures; 03-48-NG | 1,600 Bcf |  | Import and export a combined total of natural gas from and to Canada, and Mexico, beginning on December 1, 2003, and extending through November 30, 2005.
1896 | 9-25-03 | Murphy Gas Gathering, Inc.; 03-50-NG | 75 Bcf |  | Import natural gas from Canada, beginning on December 1, 2003, and extending through November 30, 2005.
1897 | 9-25-03 | NUI Energy Brokers, Inc.; 03-53-NG | 250 Bcf |  | Import and export a combined total of natural gas from and to Canada and Mexico, beginning on October 1, 2003, and extending through September 30, 2005.
1898 | 9-30-03 | Cinergy Marketing & Trading, LP; 03-51-NG | 500 Bcf |  | Import and export a combined total of natural gas from and to Mexico, beginning on November 31, 2003, and extending through October 31, 2005.

[FR Doc. 03-27020 Filed 10-24-03; 8:45 am]

BILLING CODE 6450-01-P